DEPARTMENT OF THE INTERIOR

National Park Service

[NPS-WASO-NAGPRA-NPS0030484; PPWOCRADN0-PCU00RP14.R50000]

Notice of Intent To Repatriate Cultural Items: Harry Ransom Center, University of Texas at Austin, Austin, TX

AGENCY: National Park Service, Interior.

ACTION: Notice.

SUMMARY: The Harry Ransom Center at the University of Texas at Austin, in consultation with the appropriate Indian Tribes or Native Hawaiian organizations, has determined that the cultural item listed in this notice meets the definition of sacred objects and objects of cultural patrimony. Lineal descendants or representatives of any Indian Tribe or Native Hawaiian organization not identified in this notice that wish to claim this cultural item should submit a written request to the Harry Ransom Center at the University of Texas at Austin. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Harry Ransom Center at the University of Texas at Austin at the address in this notice by August 31, 2020.

ADDRESSES: Ester Harrison, Art Registrar for Loans & Exhibitions, Harry Ransom Center, University of Texas at Austin, P.O. Box 7219, Austin, TX 78713-7219, telephone (512) 471-9127, email ester.harrison@austin.utexas.edu.

SUPPLEMENTARY INFORMATION: Notice is here given in accordance with the Native American Graves Protection and Repatriation Act (NAGPRA), 25 U.S.C. 3005, of the intent to repatriate one cultural item under the control of the Harry Ransom Center, University of Texas at Austin, Austin, TX, that meets the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1970, one drum (catalog number 1080) was donated to the University of Texas at Austin as part of the estate of Erle Stanley Gardner of Temecula CA, and subsequently transferred to the Harry Ransom Center collections. It is not known when or how Erle Stanley Gardner originally collected the drum. This sacred object and object of cultural patrimony is a wooden drum with rawhide ends and lacing, and painted in ochre, dark brown, and white colors.

Based on initial research by the Harry Ransom Center, the drum was believed to be of Southwest Native American origin. Further research and consultation with representatives from the Pueblo of Cochiti, New Mexico, found that Cochiti is known by all Pueblos for creating ceremonial drums of this style for tribal use in the practice of traditional native religion. Accordingly, this drum in the Erle Stanley Gardner Collection clearly is a sacred object originating from Cochiti Pueblo.

Determinations Made by the Harry Ransom Center, University of Texas at Austin

Officials of the Harry Ransom Center, University of Texas at Austin have determined that:

• Pursuant to 25 U.S.C. 3001(3)(C), the one cultural item described above is of specific ceremonial objects needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between drum and the Pueblo of Cochiti, New Mexico.

Additional Requestors and Disposition

Lineal descendants or representatives of any Indian Tribe or Native Hawaiian organization not identified in this notice that wish to claim this cultural item should submit a written request with information in support of the claim to Ester Harrison, Art Registrar for Loans & Exhibitions, Harry Ransom Center, University of Texas at Austin, P.O. Box 7219, Austin, TX 78713-7219, telephone (512) 471-9127, email ester.harrison@austin.utexas.edu, by August 31, 2020. After that date, if no additional claimants have come forward, transfer of control of the sacred object and object of cultural patrimony to the Pueblo of Cochiti, New Mexico may proceed.

The Harry Ransom Center, University of Texas at Austin is responsible for notifying the Mescalero Apache Tribe of the Mescalero Reservation, New Mexico; Navajo Nation, Arizona, New Mexico & Utah; Ohkay Owingeh, New Mexico (previously listed as Pueblo of San Juan); Pueblo of Acoma, New Mexico; Pueblo of Isleta, New Mexico; Pueblo of Jemez, New Mexico; Pueblo of Nambe, New Mexico; Pueblo of Picuris, New Mexico; Pueblo of Pojoaque, New Mexico; Pueblo of San Felipe, New Mexico; Pueblo of Sandia, New Mexico; Pueblo of Santa Ana, New Mexico; Pueblo of Santa Clara, New Mexico; Pueblo of Zia, New Mexico; San Carlos Apache Tribe of the San Carlos Reservation, Arizona; and the Zuni Tribe of the Zuni Reservation, New Mexico that this notice has been published.

Dated: June 18, 2020.
Melanie O'Brien,
Manager, National NAGPRA Program.

[FR Doc. 2020-16499 Filed 7-29-20; 8:45 am]

BILLING CODE 4312-52-P